FEDERAL COMMUNICATIONS COMMISSION

Radio Broadcasting Services; AM or FM Proposals To Change the Community of License

AGENCY: Federal Communications Commission.

ACTION: Notice.

SUMMARY: The following applicants filed AM or FM proposals to change the community of License: Campo Elias Munera, Station NEW, Facility ID 198790, BNPH-20151013AIU, From Roaring Springs, TX, To Girard, TX; LLC Marble City Media, LLC, Station WFXO, Facility ID 704, BPH-20160802ACA, From Ashland, AL, To Stewartville, AL; Noalmark Broadcasting Corporation, Station KMLK, Facility ID 85169, BPH-20160809AAJ, From El Dorado, AR, To Junction City, AR; United Broadcasting Company, Inc., Station KTKK, Facility ID14890, BP-20140623AAZ, From Sandy, UT, To Kearns, UT.

DATES: Comments may be filed through October 18, 2016.

ADDRESSES: Federal Communications Commission, 445 Twelfth Street SW., Washington, DC 20554.

FOR FURTHER INFORMATION CONTACT: Tung Bui, 202-418-2700.

SUPPLEMENTARY INFORMATION: The full text of these applications is available for inspection and copying during normal business hours in the Commission's Reference Center, 445 12th Street SW., Washington, DC 20554 or electronically via the Media Bureau's Consolidated Data Base System, http://svartifoss2.fcc.gov/prod/cdbs/pubacc/prod/cdbs_pa.htm. A copy of this application may also be purchased from the Commission's duplicating contractor, Best Copy and Printing, INC., 445 12th Street SW., Room CY-B402, Washington, DC 20554, telephone 1-800-378-3160 or www.BCPIWEB.com.

Federal Communications Commission.
James D. Bradshaw,
Deputy Chief, Audio Division, Media Bureau.

[FR Doc. 2016-19825 Filed 8-18-16; 8:45 am]

BILLING CODE 6712-01-P